DEPARTMENT OF THE TREASURY

Submission for OMB Review; Comment Request

September 22, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 28, 2009 to be assured of consideration.

Alcohol and Tobacco Tax and Trade Bureau (TTB)

OMB Number: 1513-0028.

Type of Review: Extension.

Form: TTB F 5150.22.

Title: Application for an Industrial Alcohol User Permit.

Description: TTB F 5150.22 is used to determine the eligibility of the applicant to engage in certain operations and the extent of the operations for the production and distribution of specially denatured spirits (alcohol/rum). This form identifies the location of the premises and establishes whether the premises will be in conformity with the Federal laws and regulations.

Respondents: Businesses or other for-profits.

Estimated Total Burden Hours: 738 hours.

OMB Number: 1513-0048.

Type of Review: Extension.

Form: TTB F 5110.41.

Title: Registration of Distilled Spirits Plants and Miscellaneous Requests and Notices and Distilled Spirits Plants.

Description: The information provided by the applicants assists TTB in determining eligibility and providing for registration. These eligibility requirements are for persons who wish to establish distilled spirits plant operations. However, both statutes and regulations allow variances from regulations, and this information gives data to permit a variance.

Respondents: Businesses or other for-profits.

Estimated Total Burden Hours: 1,888 hours.

OMB Number: 1513-0057.

Type of Review: Extension.

Title: Letterhead Applications and Notices Relating to Wine (5120/2).

Description: Letterhead applications and notices relating to wine are required to ensure that the intended activity will not jeopardize the revenue or defraud consumers.

Respondents: Businesses or other for-profits.

Estimated Total Burden Hours: 826 hours.

OMB Number: 1513-0088.

Type of Review: Extension.

Title: Alcohol, Tobacco, and Firearms Related Documents for Tax Returns and Claims (TTB REC 5000/24).

Description: TTB is responsible for the collection of the excise taxes on firearms, ammunition, distilled spirits, wine, beer, cigars, cigarettes, chewing tobacco, snuff, cigarette papers and tubes and pipe tobacco. Alcohol, tobacco, firearms and ammunition excise taxes are required to be collected on the basis of a return, and required to maintain appropriate records that support the information in the return.

Respondents: Businesses or other for-profits.

Estimated Total Burden Hours: 503,921 hours.

OMB Number: 1513-0129.

Type of Review: Revision.

Form: TTB F 5000.28T09.

Title: Tobacco Products and Cigarette Papers and Tubes, 2009 Tax Increase and Floor Stocks Tax.

Description: The Children's Health Insurance Program Reauthorization Act of 2009 (Pub. L. 111-3), enacted February 4, 2009, imposed a floor stocks tax on tobacco products (except large cigars) and cigarette papers and tubes held for sale on April 1, 2009. Persons holding taxable articles on that date must take an inventory and file a return and pay any tax due.

Respondents: Businesses or other for-profits.

Estimated Total Burden Hours: 1,200,000 hours.

Clearance Officer: Frank Foote (202) 927-9347, Alcohol and Tobacco Tax and Trade Bureau, Room 200 East, 1310 G Street, NW., Washington, DC 20005.

OMB Reviewer: Shagufta Ahmed, (202) 395-7873, Office of Management and Budget, Room 10235, New Executive Office Building, Washington, DC 20503.

Celina Elphage,
Treasury PRA Clearance Officer.

[FR Doc. E9-23274 Filed 9-25-09; 8:45 am]

BILLING CODE 4810-31-P